Title 3—

The President

Memorandum of November 21, 2017

Delegation of Authority Under the Foreign Aid Transparency and Accountability Act of 2016

Memorandum for the Director of the Office of Management and Budget

By the authority vested in me as President by the Constitution and the laws of the United States of America, including section 301 of title 3, United States Code, I hereby delegate to the Director of the Office of Management and Budget the functions and authorities vested in the President by sections 3(b) and 3(d) of the Foreign Aid Transparency and Accountability Act of 2016 (Public Law 114-191) (the “Act”), including updating the guidelines required by section 3(b) as he may think proper, in accordance with the Act.

The delegation in this memorandum shall apply to any provision of any future public law that is the same or substantially the same as sections 3(b) and 3(d) of the Act.

You are authorized and directed to publish this memorandum in the Federal Register.

THE WHITE HOUSE,

Washington, November 21, 2017

[FR Doc. 2017-25845

Filed 11-28-17; 8:45 am]

Billing code 3110-01-P